ENVIRONMENTAL PROTECTION AGENCY

40 CFR Part 52

[EPA-R04-OAR-2010-0666-201032; FRL-9202-1]

Adequacy Status of the Knoxville, TN 1997 8-Hour Ozone Maintenance Plan Motor Vehicle Emission Budgets for Transportation Conformity Purposes

AGENCY: Environmental Protection Agency (EPA).

ACTION: Notice of adequacy.

SUMMARY: EPA is notifying the public that it has found that the motor vehicle emissions budgets (MVEBs) contained in the State Implementation Plan (SIP) revision for the Knoxville, Tennessee 1997 8-Hour Ozone Maintenance Plan are adequate for transportation conformity purposes. This revision was submitted on July 14, 2010, by the Tennessee Department of Environment and Conservation (TDEC). The Knoxville 1997 8-Hour ozone nonattainment area (hereafter referred to as “the Knoxville Area”) for which MVEBs are established in today's notice is comprised of the entire counties of Anderson, Blount, Jefferson, Knox, Sevier, and Loudon as well as the portion of Cocke County that falls within the boundaries of the Great Smoky Mountains National Park. On March 2, 1999, the United States Court of Appeals for the District of Columbia Circuit (DC Circuit) ruled that submitted SIPs cannot be used for transportation conformity determinations until EPA has affirmatively found them adequate. As a result of EPA's finding, the Knoxville Area must use the MVEBs for future conformity determinations for the 1997 8-hour ozone national ambient air quality standards (NAAQS).

DATES: These MVEBs are effective September 30, 2010.

FOR FURTHER INFORMATION CONTACT: Kelly Sheckler, U.S. Environmental Protection Agency, Region 4, Air Planning Branch, 61 Forsyth Street, SW., Atlanta, Georgia 30303. Ms. Sheckler can also be reached by telephone at (404) 562-9222, or via electronic mail at sheckler.kelly@epa.gov. The finding is available at EPA's conformity Web site: http://www.epa.gov/otaq/stateresources/transconf/currsips.htm.

SUPPLEMENTARY INFORMATION: This notice is simply an announcement of a finding that EPA has already made. EPA, Region 4, sent a letter to TDEC on July 20, 2010, stating that the MVEBs identified for Knoxville in Tennessee's maintenance SIP revision, submitted on July 14, 2010, are adequate and must be used for transportation conformity determinations in the Knoxville Area. Originally, on June 11, 2010, TDEC submitted its maintenance plan for parallel processing which allowed EPA to initiate our public comment period for adequacy of the MVEBs contained in Tennessee's maintenance plan.

EPA posted the availability of the Knoxville Area MVEBs on EPA's Web site on June 14, 2010, as part of the adequacy process, for the purpose of soliciting comments. The adequacy comment period ran from June 15, 2010, through July 14, 2010. During EPA's adequacy comment period, no comments were received on the Knoxville Area MVEBs. Through this notice, EPA is informing the public that these MVEBs are adequate for transportation conformity. This finding has also been announced on EPA's conformity Web site: http://www.epa.gov/otaq/stateresources/transconf/pastsips.htm. The adequate MVEBs are provided in the following table:

Knoxville, Tennessee 8-Hour Ozone MVEBs
[Tons per day]
| 2024
NOX | 36.32
VOC | 25.19

Transportation conformity is required by section 176(c) of the Clean Air Act. EPA's conformity rule, 40 CFR Part 93, requires that transportation plans, programs and projects conform to state air quality implementation plans and establishes the criteria and procedures for determining whether or not they do so. Conformity to a SIP means that transportation activities will not produce new air quality violations, worsen existing violations, or delay timely attainment of the NAAQS.

The criteria by which EPA determines whether a SIP's MVEBs are adequate for transportation conformity purposes are outlined in 40 CFR 93.118(e)(4). We have also described the process for determining the adequacy of submitted SIP budgets in our July 1, 2004, final rulemaking entitled, “Transportation Conformity Rule Amendments for the New 8-Hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of Tennessee's 1997 8-hour ozone SIP revision for the Knoxville Area. Even if EPA finds a budget adequate, the SIP revision could later be disapproved.

Within 24 months from the effective date of this notice, the transportation partners will need to demonstrate conformity to the new MVEBs, if the demonstration has not already been made, pursuant to 40 CFR 93.104(e). See 73 FR 4419 (January 24, 2008).

Authority: 42 U.S.C. 7401 et seq.

Dated: September 3, 2010.
A. Stanley Meiburg,
Acting Regional Administrator, Region 4.

[FR Doc. 2010-22973 Filed 9-14-10; 8:45 am]

BILLING CODE 6560-50-P